DEPARTMENT OF ENERGY

National Nuclear Security Administration; Stewardship Science Academic Alliances Program Financial Assistance Number DE-PS03-01SF22349

AGENCY: National Nuclear Security Administration (NNSA), U.S. Department of Energy (DOE).

ACTION: Notice of competitive financial assistance solicitation.

SUMMARY: The DOE/NNSA, through the Oakland Operations Office, is seeking applications/proposals in specific areas of physical science with the principal goals of: (1) Grow the U.S. scientific community, through the funding of research projects at universities, in areas of fundamental science and technology relevant to stockpile stewardship, with a focus on those areas that have not been traditionally supported by other federal agencies and for which there is a recruiting need within the NNSA/DP laboratories complex; and (2) Providing fundamental-science information and developing advanced experimental measurement techniques in selected areas of physical sciences: condensed matter physics and materials science, hydrodynamics, plasma and high-energy-density physics, fluid dynamics, and low-energy nuclear science.

ADDRESSES: The formal solicitation document, Stewardship Science Academic Alliances Program (DE-PS03-01SF22349), is available through the Industry Interactive Procurement System (IIPS) located at the following URL: http://e-center.doe.gov. IIPS provides the medium for disseminating solicitations, receiving financial assistance applications and evaluating applications in a paperless environment. Completed applications are required to be submitted via IIPS. Individuals who have the authority to enter their university or academic institution into a financial assistance award and intend to submit proposals/applications via the IIPS system must register and receive confirmation that they are registered prior to being able to submit an application on the IIPS system. An IIPS “User Guide for Contractor” can be obtained by going to the IIPS Homepage at the following URL: http://e-center.doe.gov and then clicking on the “Help” button. Questions regarding the operation of IIPS may be e-mailed to the IIPS Help Desk at IIPSHelpDesk@e-center.doe.gov or call the help desk at (800) 683-0751.

FOR FURTHER INFORMATION CONTACT: Ms Bertha Crisp, Contract Specialist, U.S. Department of Energy, Oakland Operations Office, 1301 Clay Street, N-700, Oakland, CA 94612-5208; e-mail bertha.crisp@oak.doe.gov

SUPPLEMENTARY INFORMATION: Proposals for Research Grants and Centers of Excellence are invited from universities or other academic institutions in the following specific areas of physical science: (1) Properties of materials under extreme conditions and hydrodynamics, (2) high-energy-density physics and fluid dynamics, and (3) low-energy nuclear science. The Stewardship Science Academic Alliances Program is an expansion of the currently funded “Inertial Fusion Science in Support of Stockpile Stewardship” Grant Program. The Office of Research, Development and Simulation anticipates supporting multiple awards in physical sciences totaling approximately $12.5M annually, subject to the availability of funds, as a result of this solicitation. Awards will be for one to three-year projects of work at a funding level appropriate for the proposed scopes. Funding of awards will range up to approximately $2,000,000 per year for Centers of Excellence and will range up to a few hundred thousand dollars per year for Research Grants. The solicitation document contains all the information relative to this action for prospective applicants. The North American Industry Classification System (NAICS) number for this program is 541.

Issued in Oakland, CA, on December 3, 2001.
R. Arlene Coleman,
Acting Director, Financial Assistance Center, Oakland Operations Office.

[FR Doc. 01-30443 Filed 12-7-01; 8:45 am]

BILLING CODE 6450-01-P